DEPARTMENT OF ENERGY

Federal Energy Regulatory Commission

[Project No. 2179-043]

Merced Irrigation District; Notice of Waiver Period for Water Quality Certification Application

Date of Receipt of the Certification Request: May 15, 2025.

Reasonable Period of Time to Act on the Certification Request: One year (May 15, 2026).

If the California Water Board fails or refuses to act on the water quality certification request on or before the above date, then the agency certifying authority is deemed waived pursuant to section 401(a)(1) of the Clean Water Act, 33 U.S.C. 1341(a)(1).

Dated: June 17, 2025.
Debbie-Anne A. Reese,
Secretary.

[FR Doc. 2025-11484 Filed 6-20-25; 8:45 am]

BILLING CODE 6717-01-P